ENVIRONMENTAL PROTECTION AGENCY

40 CFR Part 60

[EPA-HQ-OAR-2013-0696; FRL-9911-72-OAR]

RIN 2060-5689

Performance Specification 18—Specifications and Test Procedures for Gaseous HCl Continuous Emission Monitoring Systems at Stationary Sources

AGENCY: Environmental Protection Agency (EPA).

ACTION: Proposed rule; extension of public comment period.

SUMMARY: The Environmental Protection Agency (EPA) is announcing that the period for providing public comments on the May 14, 2014, proposed “Performance Specification 18—Specifications and Test Procedures for Gaseous HCl Continuous Emission Monitoring Systems at Stationary Sources” is being extended by 30 days.

DATES: The public comment period for the proposed rule published May 14, 2014 (79 FR 27690) is being extended by 30 days to July 13, 2014, in order to provide the public additional time to submit comments and supporting information.

ADDRESSES: Written comments on the proposed rule may be submitted to the EPA electronically, by mail, by facsimile or through hand delivery/courier. Please refer to the proposal (79 FR 27690) for the addresses and detailed instructions.

Docket. Publicly available documents relevant to this action are available for public inspection either electronically at http://www.regulations.gov or in hard copy at the EPA Docket Center, Room 3334, 1301 Constitution Ave. NW., Washington, DC. The Public Reading Room is open from 8:30 a.m. to 4:30 p.m., Monday through Friday, excluding legal holidays. A reasonable fee may be charged for copying. The EPA has established the official public docket No. EPA-HQ-OAR-2013-0696.

FOR FURTHER INFORMATION CONTACT: Ms. Candace Sorrell, Office of Air Quality Planning and Standards, Air Quality Assessment Division (AQAD), Measurement Technology Group, U.S. Environmental Protection Agency, Research Triangle Park, North Carolina 27709; telephone number: (919) 541-1064; fax number: (919) 541-0516; email address: sorrell.candace@epa.gov.

SUPPLEMENTARY INFORMATION:

Comment Period

The EPA is extending the public comment period for an additional 30 days. The public comment period will end on July 13, 2014, rather than June 13, 2014. This will ensure that the public has sufficient time to review and comment on all of the information available, including the proposed rule.

List of Subjects in 40 CFR Part 60

Environmental protection, Administrative practice and procedure, Air pollution control, Continuous emission monitoring systems, Hydrogen chloride, Performance specifications, Test methods and procedures.

Dated: May 27, 2014.
Mary Henigin,
Director, Office of Air Quality Planning and Standards.

[FR Doc. 2014-12798 Filed 6-2-14; 8:45 am]

BILLING CODE 6560-50-P